DEPARTMENT OF DEFENSE

Office of the Secretary

[Docket ID: DoD-2024-OS-0110]

Proposed Collection; Comment Request

AGENCY: Office of the Under Secretary of Defense for Acquisition and Sustainment (OUSD(A&S)), Department of Defense (DoD).

ACTION: 60-Day information collection notice.

SUMMARY: In compliance with the Paperwork Reduction Act of 1995, the Defense Logistics Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 10, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Logistics Agency, ATTN: Mary Haley, Director, 5250 Pearson Rd., Bldg. 207, WPAFB, Ohio 45433-5328, or call (937) 672-1751.

SUPPLEMENTARY INFORMATION:

Title; Associated Form; and OMB Number: Industry Engagement Request, DLA Form 3001; OMB Control Number 0704-IYER.

Needs and Uses: The DLA Information Operations (J6) and the Program Executive Office requires a process to provide fair and equal access to vendors. This information collection is intended to allow all vendors to request access to J6 staff when the vendor has products or services beneficial to the DLA J6 mission. The information collected will include what product or service the vendor is promoting as well as the area of DLA that would benefit (information systems, aviation, distribution, disposition, etc.). This allows the J6 to quickly and efficiently route the information to the correct DLA representative responsible for vendor engagement and product/resource acquisition instead of being sent through several offices to find the right one.

The information collection will be used by vendors to initiate contact with the DLA to invite DLA to engage with the vendor. By completing and submitting the information collection, the vendor is requesting a meeting with DLA and providing DLA with the information necessary to determine what office the vendor is intending to contact. The contact information provided by the vendor allows the correct DLA representative to contact the vendor to schedule meetings and demos of new or updated software/product/services to the DLA J6.

Affected Public: Business or other for-profit.

Annual Burden Hours: 5 minutes.

Number of Respondents: 20.

Responses per Respondent: 1.

Annual Responses: 20.

Average Burden per Response: 1.7 hours.

Frequency: On occasion.

This information collection is conducted electronically through a form created and accessible using Microsoft Forms. The vendor is responsible for initiating contact through a link in a signature block, business card, or available on the DLA public-facing website (ww.dla.mil). The vendor will complete and submit the form to DLA through Microsoft Forms.

Dated: October 7, 2024.
Patricia L. Toppings,
OSD Federal Register Liaison Officer, Department of Defense.

[FR Doc. 2024-23557 Filed 10-10-24; 8:45 am]

BILLING CODE 6001-FR-P